DEPARTMENT OF TRANSPORTATION

Federal Aviation Administration

14 CFR Part 39

[Docket No. FAA-2010-1313; Directorate Identifier 2010-NM-158-AD; Amendment 39-16823; AD 2011-20-10]

RIN 2120-AA64

Airworthiness Directives; The Boeing Company Model 737-600, -700, -700C, -800, -900, and -900ER Series Airplanes

AGENCY: Federal Aviation Administration (FAA), DOT.

ACTION: Final rule.

SUMMARY: We are adopting a new airworthiness directive (AD) for the products listed above. This AD requires inspecting to determine the clearance and any wire bundle damage between wire bundle W443 and the left forward rudder quadrant, followed by adjusting the minimum clearance between the wire bundle and the left forward rudder quadrant, and repairing any wire bundle damage. This AD was prompted by reports of contact between wire bundle W443 and the left forward rudder quadrant. We are issuing this AD to detect and correct contact between the wire bundle and the left forward rudder quadrant. Damage to the wire bundle from contact between the wire bundle and the left forward rudder quadrant could result in uncommanded stabilizer trim and autopilot disconnects due to shorted wires, potentially affecting the capability of the flightcrew during high work load and consequently reducing control of the airplane. Restricted movement of the rudder quadrant at full right rudder travel would reduce controllability of the airplane.

DATES: This AD is effective November 9, 2011.

The Director of the Federal Register approved the incorporation by reference of a certain publication listed in the AD as of November 9, 2011.

ADDRESSES: For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Dean Thompson, Aerospace Engineer, Systems and Equipment Branch, ANM-130S, FAA, Seattle Aircraft Certification Office, 1601 Lind Avenue, SW., Renton, Washington 98057-3356; telephone (425) 917-6409; fax (425) 917-6590.

SUPPLEMENTARY INFORMATION:

Discussion

We issued a notice of proposed rulemaking (NPRM) to amend 14 CFR part 39 to include an airworthiness directive (AD) that would apply to the specified products. That NPRM was published in the Federal Register on January 18, 2011 (76 FR 2840). That NPRM proposed to require inspecting to determine the clearance and any wire bundle damage between wire bundle W443 and the left forward rudder quadrant, followed by adjusting the minimum clearance between the wire bundle and the left forward rudder quadrant, and repairing any wire bundle damage.

Comments

We gave the public the opportunity to participate in developing this AD. We have considered the comments received. The following presents the comments received on the proposal and the FAA's response to each comment.

Support for the NPRM

American Airlines, Delta Air Lines, and Continental Airlines (CAL) support the NPRM (76 FR 2840, January 18, 2011), and stated that they have been inspecting the affected airplanes in accordance with the original issue and revision 1 of the service information cited in the NPRM.

Request for Boeing To Add Instructions for Continued Airworthiness (ICAs)

CAL requested that the FAA ask Boeing to add the appropriate ICAs to the Boeing 737NG Aircraft Maintenance Manual (AMM), because CAL is concerned about inadvertently undoing the corrective actions proposed in the NPRM (76 FR 2840, January 18, 2011) during future maintenance.

We disagree with the request to ask Boeing for ICAs. Current maintenance procedures and inspections ensure that the unsafe condition corrected in accordance with the AD will not be undone during future maintenance. A maintenance task exists to do a general visual inspection (GVI) of the area above the outboard nose wheel well, an inspection derived from the enhanced zonal analysis procedure (EZAP). This GVI of the area includes inspecting the wire bundles for damage and ensures no interference (riding) condition exists. Also, the rudder travel test provided in the AMM already includes steps to verify that wire bundle W443 has a minimum clearance of 0.5 inch from the left forward rudder quadrant at full travel motion while someone operates the rudder pedals, which captures the intent of this AD action. Boeing has updated the 737NG AMM to Revision 45, dated June 15, 2011, to include minimum clearance of 0.5 inch for the rudder travel test. We have not changed the AD in this regard.

Conclusion

We reviewed the relevant data, considered the comments received, and determined that air safety and the public interest require adopting the AD as proposed.

Costs of Compliance

We estimate that this AD will affect 870 airplanes of U.S. registry. The following table provides the estimated costs for U.S. operators to comply with this AD.

Table—Estimated Costs
Action | Work-hours | Average labor rate per hour | Cost per product | Number of U.S.-registered airplanes | Fleet cost
Inspection | 2 | $85 | $170 | 870 | $147,900

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-20-10 The Boeing Company: Amendment 39-16823; Docket No. FAA-2010-1313; Directorate Identifier 2010-NM-158-AD.

Effective Date

(a) This AD is effective November 9, 2011.

Affected ADs

(b) None.

Applicability

(c) This AD applies to The Boeing Company Model 737-600, -700, -700C, -800, -900, and -900ER series airplanes, certificated in any category, as identified in Boeing Special Attention Service Bulletin 737-27-1282, Revision 1, dated June 14, 2010.

Subject

(d) Air Transport Association (ATA) of America Code 27: Flight controls.

Unsafe Condition

(e) This AD was prompted by reports of contact between wire bundle W443 and the left forward rudder quadrant. We are issuing this AD to detect and correct contact between the wire bundle and the left forward rudder quadrant. Damage to the wire bundle from contact between the wire bundle and the left forward rudder quadrant could result in uncommanded stabilizer trim and autopilot disconnects due to shorted wires, potentially affecting the capability of the flightcrew during high work load and consequently reducing control of the airplane. Restricted movement of the rudder quadrant at full right rudder travel would reduce controllability of the airplane.

Compliance

(f) You are responsible for having the actions required by this AD performed within the compliance times specified, unless the actions have already been done.

Wire Bundle W443 Inspection and Clearance Measurement

(g) Within 60 months after the effective date of this AD: Do a detailed inspection of wire bundle W443 for damage and measure for sufficient clearance, in accordance with Part 1 of the Work Instructions of Boeing Special Attention Service Bulletin 737-27-1282, Revision 1, dated June 14, 2010. If the wire bundle is undamaged, and sufficient clearance exists, no further action is required by this AD.

Wire Bundle W443 Undamaged: Clearance Adjustment

(h) If the clearance of wire bundle W443 in the inspection required by paragraph (g) of this AD is found to be insufficient, before further flight, adjust the wire bundle clearance, in accordance with Part 2 of the Work Instructions of Boeing Special Attention Service Bulletin 737-27-1282, Revision 1, dated June 14, 2010.

Wire Bundle W443 Damaged: Repair, and Clearance Adjustment

(i) If wire bundle W443 is found to be damaged in the inspection required by paragraph (g) of this AD, before further flight, repair the damaged wire bundle and adjust the wire bundle clearance, in accordance with Part 3 of the Work Instructions of Boeing Special Attention Service Bulletin 737-27-1282, Revision 1, dated June 14, 2010.

Credit for Actions Accomplished in Accordance With Previous Service Information

(j) Actions accomplished before the effective date of this AD in accordance with Boeing Special Attention Service Bulletin 737-27-1282, dated March 15, 2007, are considered acceptable for compliance with the corresponding action specified in this AD.

Alternative Methods of Compliance (AMOCs)

(k)(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your appropriate principal inspector, or lacking a principal inspector, the manager of the local flight standards district office/certificate holding district office.

Related Information

(l) For more information about this AD, contact Dean Thompson, Aerospace Engineer, Systems and Equipment Branch, ANM-130S, FAA, Seattle ACO, 1601 Lind Avenue, SW., Renton, Washington 98057-3356; telephone: (425) 917-6409; fax: (425) 917-6590; e-mail: Dean.R.Thompson@faa.gov.

Material Incorporated by Reference

(m) You must use Boeing Special Attention Service Bulletin 737-27-1282, Revision 1, dated June 14, 2010, to do the actions required by this AD, unless the AD specifies otherwise.

(1) The Director of the Federal Register approved the incorporation by reference of Boeing Special Attention Service Bulletin 737-27-1282, Revision 1, dated June 14, 2010, under 5 U.S.C. 552(a) and 1 CFR part 51.

(2) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on September 22, 2011.
Ali Bahrami,
Manager, Transport Airplane Directorate, Aircraft Certification Service.

[FR Doc. 2011-25313 Filed 10-4-11; 8:45 am]

BILLING CODE 4910-13-P